DEPARTMENT OF COMMERCE

National Oceanic and Atmospheric Administration

[RTID 0648-XE561]

Pacific Fishery Management Council; Public Meeting

AGENCY: National Marine Fisheries Service (NMFS), National Oceanic and Atmospheric Administration (NOAA), Commerce.

ACTION: Notice of public online meeting.

SUMMARY: The Pacific Fishery Management Council (Council) is hosting an informational session on Council practices and procedures for all Advisory Body members.

DATES: The online meeting will be held Wednesday, January 22, 2025, from 10 a.m. until 12 p.m., Pacific time or until business for the day concludes.

ADDRESSES: This meeting will be held online. Specific meeting information, including directions on how to join and system requirements will be provided in the meeting announcement on the Council's website (see www.pcouncil.org). You may send an email to Mr. Kris Kleinschmidt (kris.kleinschmidt@noaa.gov) or contact him at (503) 820-2280, extension 412 for technical assistance.

Council address: Pacific Fishery Management Council, 7700 NE Ambassador Place, Suite 101, Portland, OR 97220-1384.

FOR FURTHER INFORMATION CONTACT: Kelly Ames, Deputy Director, Pacific Council; telephone: (503) 820-2417.

SUPPLEMENTARY INFORMATION: The primary purpose of the meeting is to provide an orientation for new and returning Advisory Body members, ensuring they have a clear understanding of the Council's processes, procedures, and expectations. The meeting is informational only and the Advisory Body members are not expected to develop recommendations or report to the Council.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C.1801 et seq.

Dated: December 19, 2024.
Alyssa Weigers,
Acting Deputy Director, Office of Sustainable Fisheries, National Marine Fisheries Service.

[FR Doc. 2024-30794 Filed 12-26-24; 8:45 am]

BILLING CODE 3510-22-P